DEPARTMENT OF STATE

[Public Notice: 7247]

The Designation of Falah-i-Insaniat (and Other Aliases) as a Specially Designated Global Terrorist Pursuant to Section 1(b) of Executive Order 13224, as Amended

Acting under the authority of and in accordance with section 1(b) of Executive Order 13224 of September 23, 2001, as amended by Executive Order 13268 of July 2, 2002, Executive Order 13284 of January 23, 2003, and Executive Order 13372 of February 16, 2005, I hereby determine that the organization known as Falah-i-Insaniat (and other aliases) has committed, or poses a significant risk of committing, acts of terrorism that threaten the security of U.S. nationals or the national security, foreign policy, or economy of the United States.

Consistent with the determination in section 10 of Executive Order 13224 that “for those persons * * * determined to be subject to the order who might have a constitutional presence in the United States * * * prior notice to such persons of measures to be taken pursuant to this order would render these measures ineffectual,” I determine that no prior notice needs to be provided to any person subject to this determination who might have a constitutional presence in the United States, because to do so would render ineffectual the measures authorized in the Order.

This notice shall be published in the Federal Register.

Dated: September 28, 2010.
Hillary Rodham Clinton,
Secretary of State, Department of State.

[FR Doc. 2010-29872 Filed 11-26-10; 8:45 am]

BILLING CODE 4710-10-P